DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter or the investigations may request a public hearing, provided such request is filed in writing with the Director, Division of Trade Adjustment Assistance, at the address shown below, not later than August 19, 2002.

Interested persons are invited to submit written comments regarding the subject matter of the investigations to the Director, Division of Trade Adjustment Assistance, at the address shown below, not later than August 19, 2002.

The petitions filed in this case are available for inspection at the Office of the Director, Division of Trade Adjustment Assistance, Employment and Training Administration, U.S. Department of Labor, Room C-5311, 200 Constitution Avenue, NW., Washington, DC 20210.

Signed at Washington, DC, this 29th day of July, 2002.
Edward A. Tomchick,
Director, Division of Trade Adjustment Assistance.

Appendix
[Petitions Instituted on 07/29/2002]
TA-W | Subject firm (petitioners) | Location | Date of petition | Product(s)
41,880 | Affiliated Bldg. Services (Co.) | Biscoe, NC | 07/09/2002 | Contract Maintenance Services.
41,881 | Holloway Sportswear, Inc. (Wkrs) | Sidney, OH | 07/17/2002 | Sportswear.
41,882 | Aermotor Pumps Inc. (Co.) | Conway, AR | 07/09/2002 | Sump Pumps.
41,883 | The Akron Equipment Co. (Co.) | Akron, OH | 07/14/2002 | Steel and Aluminum Cast.
41,884 | Dura Automotive Systems (Co.) | Pikeville, TN | 07/08/2002 | Power Window Regulators.
41,885 | Custom Sewing, Inc. (Co.) | Rib Lake, WI | 07/12/2002 | Leather Shoes and Boots.
41,886 | Kelly Springfield (Wkrs) | Fayetteville, NC | 06/20/2002 | Truck Tires.
41,887 | Storage Technology Corp. (Wkrs) | Louisville, CO | 07/03/2002 | Printed Wire Assemblies.
41,888 | Jasper Cabinet Company (USWA) | Jasper, IN | 07/13/2002 | Wood Furniture.
41,889 | United Container Machiner (Wkrs) | Glen Arm, MD | 07/17/2002 | Box Machinery.
41,890 | Kaman Aerospace (Wkrs) | Middletown, CT | 06/13/2002 | Microwave Cables.
41,891 | American Uniform Co. (Co.) | Blue Ridge, GA | 07/11/2002 | Flat Goods.
41,892 | NF and M International (USWA) | Monaca, PA | 07/18/2002 | Wrought Titanium.
41,893 | J and J Forging (USWA) | Monaca, PA | 05/01/2002 | Titanium and Steel Alloy Products.
41,894 | Coilcraft (Wkrs) | Hawarden, IA | 07/10/2002 | Wire Wrapped Ceremic.
41,895 | Xerox Corporation (Wkrs) | Webster, NY | 06/07/2002 | Digital Copiers, Printers, Facsimiles
41,896 | McManus Wyatt Produce Co. (Wkrs) | Weslaco, TX | 07/01/2002 | Packer/Shipper of Fresh Produce.
41,897 | National Electrical Carbo (Wkrs) | Birmingham, AL | 07/08/2002 | Carbon Brushes.
41,898 | Multicraft Technology (Wkrs) | Tylertown, MS | 06/24/2002 | Automotive Electronic Parts.
41,899 | McMahon Group LLC (Wkrs) | Liverpool, NY | 07/08/2002 | Circuit Boards.
41,900 | Tecumseh Products (IAM) | Grafton, WI | 07/08/2002 | Compressors.
41,901 | Johnson and Johnson Appar (UNITE) | Bailey, NC | 07/11/2002 | Children's Dresses.
41,902 | O.S. Walker Co. (USWA) | Worcester, MA | 07/11/2002 | Electro Magnetic Chucks.
41,903 | Penske Truck Leasing (Wkrs) | Chesterfield, MO | 07/10/2002 | Truck Rental and Leasing.
41,904 | Americal Corporation (Co.) | Carrollton, GA | 07/08/2002 | Internationally Sourced Goods.
41,905 | Penn Compression Moulding (Wkrs) | Irwin, PA | 07/05/2002 | Power Tools.
41,906 | Cooper Tool (Wkrs) | Cheraw, SC | 07/09/2002 | Air Tools.
41,907 | Klaussner Furniture (Wkrs) | Ashboro, NC | 07/12/2002 | Furniture Cloth and Leather.
41,908 | P.S.M. Fastners (IAM) | Ferguson, MO | 07/15/2002 | Screw Machines, Valve, Fastners.
41,909 | Defender Services, Inc. (Co.) | Greensboro, NC | 06/28/2002 | Cleaning Services.
41,910 | Buffalo Color Corporation (Co.) | Buffalo, NY | 07/18/2002 | Indigo Dyes.

[FR Doc. 02-20202 Filed 8-8-02; 8:45 am]

BILLING CODE 4510-30-M